DEPARTMENT OF AGRICULTURE

Agricultural Marketing Service

[Doc. No. AMS-NOP-21-0087; NOP-21-07]

Meeting of the National Organic Standards Board

AGENCY: Agricultural Marketing Service, USDA.

ACTION: Notice of public meeting.

SUMMARY: In accordance with the Federal Advisory Committee Act, as amended, the Agricultural Marketing Service (AMS), U.S. Department of Agriculture (USDA), National Organic Program (NOP), is announcing a meeting of the National Organic Standards Board (NOSB). The publication of this notice opens the public comment docket so that the NOSB may receive comments from the public. The NOSB assists the USDA in the development of standards for substances to be used in organic production and advises the Secretary of Agriculture on other aspects of the implementation of the Organic Foods Production Act (OFPA).

DATES: A virtual meeting will be held April 26-28, 2022, from 12:00 p.m. to approximately 5:00 p.m. Eastern Time (ET) each day. The NOSB will hear oral public comments via webinars on Tuesday, April 19, 2022 and Thursday, April 21, 2022, from 12:00 p.m. to approximately 5:00 p.m. ET each day. The deadline to submit written comments and/or sign up for oral comment is 11:59 p.m. ET, April 1, 2022.

ADDRESSES: The webinars and meeting are virtual and will be accessed via the internet and/or phone. Access information will be available on the AMS website prior to the webinars. Detailed information can be found at https://www.ams.usda.gov/event/national-organic-standards-board-nosb-meeting-crystal-city-va-1.

FOR FURTHER INFORMATION CONTACT: Michelle Arsenault, Advisory Committee Specialist, National Organic Standards Board, USDA-AMS-NOP, 1400 Independence Ave. SW, Room 2642-S, STOP 0268, Washington, DC 20250-0268; Phone: (202) 997-0115; Email: michelle.arsenault@usda.gov.

SUPPLEMENTARY INFORMATION: In accordance with the Federal Advisory Committee Act, 5 U.S.C. App. 2 and 7 U.S.C. 6518(e), as amended, AMS is announcing a meeting of the NOSB. The NOSB makes recommendations to the USDA about whether substances should be allowed or prohibited in organic production and/or handling, assists in the development of standards for organic production, and advises the Secretary on other aspects of the implementation of the Organic Foods Production Act, 7 U.S.C. 6501 et seq. The NOSB is holding a public meeting to discuss and vote on proposed recommendations to the USDA, to obtain updates from the NOP on issues pertaining to organic agriculture, provide feedback on regulatory priorities, and to receive comments from the organic community. Attendees are only required to register for oral comments. All meeting documents and instructions for participating will be available on the AMS website at https://www.ams.usda.gov/event/national-organic-standards-board-nosb-meeting-crystal-city-va-1. Please check the website periodically for updates. Meeting topics will encompass a wide range of issues, including substances petitioned for addition to or removal from the National List of Allowed and Prohibited Substances (National List), substances on the National List that are under sunset review, and guidance on organic policies.

Public Comments: Comments should address specific topics noted on the meeting agenda.

Written Comments: Written public comments will be accepted on or before 11:59 p.m. ET on April 1, 2022, via https://www.regulations.gov. Comments should reference the document number and the date and page number of this issue of the Federal Register. Comments submitted after this date will be added to the public comment docket, but NOSB members may not have adequate time to consider those comments prior to making recommendations. The NOP strongly prefers comments be submitted electronically. However, written comments may also be submitted (i.e., postmarked) via mail to the person listed under FOR FURTHER INFORMATION CONTACT by or before the deadline.

Oral Comments: The NOSB will hear oral public comments via webinars on Tuesday, April 19, 2022, and Thursday, April 21, 2022, from 12:00 p.m. to approximately 5:00 p.m. ET each day. Each commenter wishing to address the NOSB must pre-register by 11:59 p.m. ET on April 1, 2022 and can only register for one speaking slot. Instructions for registering and participating in the webinars can be found at https://www.ams.usda.gov/event/national-organic-standards-board-nosb-meeting-crystal-city-va-1.

Meeting Accomodations: USDA provides reasonable accommodation to individuals with disabilities where appropriate. If you are a person requiring reasonable accommodation, please make requests in advance for sign language interpretation, assistive listening devices, or other reasonable accommodation to the person listed under FOR FURTHER INFORMATION CONTACT. Determinations for reasonable accommodation will be made on a case-by-case basis.

Dated: February 25, 2022.
Cikena Reid,
USDA Committee Management Officer.

[FR Doc. 2022-04441 Filed 3-2-22; 8:45 am]

BILLING CODE P